OFFICE OF PERSONNEL MANAGEMENT

Comment Request for Review of Information Collection: CyberCorps®: Scholarship for Service Registration System; OMB No. 3206-0246

AGENCY: Office of Personnel Management.

ACTION: 60-Day notice and request for comments from the general public and other Federal agencies on request for extension, without change, of a previously approved collection for which approval will expire September 19, 2021.

SUMMARY: In accordance with the Paperwork Reduction Act of 1995, as amended by the Clinger-Cohen Act, this notice announces the Office of Personnel Management (OPM), Human Resources Solutions (HRS) intends to submit to the Office of Management and Budget (OMB) a request for review of a previously approved Information Collection Request (ICR), 3206-0246, Scholarship for Service Registration, for which approval will expire September 19, 2021.

DATES: Comments are encouraged and should be received within 60 calendar days from the date of this publication. This process is conducted in accordance with 5 CFR 1320.1.

ADDRESSES: Interested persons are invited to submit written comments on the proposed information collection to: Office of Personnel Management, Mid-Atlantic Services Branch, Attention: Stephanie Travis, 200 Granby Street, Suite 500, Norfolk, VA 23510-1886, or via electronic email to: sfs@opm.gov.

FOR FURTHER INFORMATION CONTACT: A copy of this ICR, with applicable supporting documentation, may be obtained by contacting: Office of Personnel Management, Mid-Atlantic Services Branch, Attention: Stephanie Travis, 200 Granby Street, Suite 500, Norfolk, VA 23510-1886, or via electronic email to: sfs@opm.gov, or via telephone at: 202-606-1800.

SUPPLEMENTARY INFORMATION: The CyberCorps®: Scholarship for Service (SFS) Program was established by the National Science Foundation, in collaboration with the Office of Personnel Management and the Department of Homeland Security, in accordance with the Cybersecurity Enhancement Act of 2014 (Pub. L. 113-274) as amended by the National Defense Authorization Act FY18 (15 U.S.C. 7442). This initiative reflects the critical need for Information Technology (IT) professionals, industrial control system security professionals, and security managers in government. Students identified by their institutions for SFS Scholarships must meet selection criteria based on prior academic performance, likelihood of success in obtaining the degree, and suitability for government employment. Each scholarship recipient, as a condition of receiving a scholarship under the program, enters into an agreement under which the recipient agrees to work during the summer between academic terms and work for a period equal to the length of the scholarship, following receipt of the student's degree, in the cyber security mission of:

(1) An executive agency (as defined in the United States Code, Title 5, Section 105;

(2) Congress, including any agency, entity, office, or commission established in the legislative branch;

(3) an interstate agency;

(4) a State, local, or Tribal government; or

(5) a State, local, or Tribal government-affiliated non-profit that is critical infrastructure (as defined in section 1016(e) of the USA Patriot Act (42 U.S.C. 5195c(e)). Approval of the CyberCorps®: Scholarship for Service (SFS) Registration system is necessary to continue management and operation of the program in accordance with the Cybersecurity Enhancement Act of 2014 (Pub. L. 113-274) as amended by the National Defense Authorization Act FY18 (15 U.S.C. 7442), and to facilitate the timely registration, selection and placement of program-enrolled students in government agencies.

The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Ways in which we can minimize the burden of the collection of information on those who are to respond, including through the use of appropriate automated, electronic, mechanical, or other technological collection techniques or other forms of information technology, e.g., permitting electronic submissions of responses.

Analysis

Agency: Office of Personnel Management, Human Resources Solutions, CyberCorps®: Scholarship for Service Program.

Title: Scholarship for Service (SFS) Program internet Site.

OMB Number: 3206-0246.

Frequency: Annually.

Affected Public: Individuals or Households.

Number of Respondents: 761.

Estimated Time per Respondent: 1 hour.

Total Burden Hours: 761 hours.

Alexys Stanley,
Regulatory Affairs Analyst.

[FR Doc. 2021-06201 Filed 3-31-21; 8:45 am]

BILLING CODE 6325-43-P